POSTAL SERVICE

39 CFR Part 111

New Electronic Signature Option

AGENCY: Postal Service™.

ACTION: Proposed rule.

SUMMARY: The Postal Service is proposing to revise Mailing Standards of the United States Postal Service, Domestic Mail Manual (DMM®) to include a more flexible option for package addressees to provide an electronic signature indicating delivery of a package.

DATES: Submit comments on or before April 15, 2019.

ADDRESSES: Mail or deliver written comments to the manager, Product Classification, U.S. Postal Service, 475 L'Enfant Plaza SW, Room 4446, Washington, DC 20260-5015. If sending comments by email, include the name and address of the commenter and send to ProductClassification@usps.gov, with a subject line of “New Electronic Signature Option”. Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC, 20260. These records are available for review on Monday through Friday, 9 a.m.—4 p.m., by calling 202-268-2906.

FOR FURTHER INFORMATION CONTACT: Karen F. Key at (202) 268-7492, Tiffany S. Jesse at (202) 268-7303, or Garry Rodriguez at (202) 268-7281.

SUPPLEMENTARY INFORMATION: The Postal Service is proposing to amend the DMM in various sections to offer a more flexible option for package addressees (or their representatives) to provide an electronic signature indicating delivery of a package, when the sender chooses the following signature services: Priority Mail Express®, Signature Confirmation™ service, and Insurance for more than $500. Generally, current practice is for the recipient of the package to sign at the time of delivery.

An exception is offered for some packages addressed to a Post Office Box™. Post Office Box customers at Competitive Post Office Box locations can sign up for a Signature On File option, and provide a signature that is retained at the Post Office for scanning when the aforementioned signature services are used. The package is then left in the customer's Post Office Box or a parcel locker for pickup at the customer's convenience, without having to provide a new signature.

The Postal Service is proposing to add an option for deliveries outside of postal facilities. Customers would sign up and provide a signature electronically. This would enable the customer to apply the previously provided signature to future Commercial package deliveries sent to the customer's address using Priority Mail Express, Signature Confirmation service, or Insurance for more than $500, eliminating the need for a signature at the time of delivery. However, shippers who want the Postal Service to obtain a signature at the time of delivery would have the option to indicate this requirement on the shipping manifest. When the shipper does not reject the use of the previously provided signature, the customer who previously provided an electronic signature would be given the option for each delivery whether to sign at the time of delivery, or use the previously provided electronic signature.

For Priority Mail Express, the shipper already must request a signature in order for it be collected. The proposal would be to make the previously provided electronic signature available for such deliveries, unless the shipper indicates on the shipping manifest that the signature needs to be collected from the recipient at the time of delivery.

Application to all shipments using Priority Mail Express, Signature Confirmation service, and Insurance for more than $500, rather than just Commercial shipments, may be phased in later.

Changes to the DMM language include a more general reference to the signature for the affected services, while adding a description of “signature” which distinguishes between the traditional signature and the electronic signature.

In addition, the Postal Service will remove outdated text referring to Priority Mail Express labels printed prior to January 2012.

List of Subjects in 39 CFR Part 111

Administrative practice and procedure, Postal Service.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

100 Retail Mail Letters, Cards, Flats, and Parcels

* * * * *

110 Priority Mail Express

* * * * *

115 Mail Preparation

* * * * *

2.0 Priority Mail Express 1-Day and 2-Day

* * * * *

[Delete 2.2, Waiver of Signature, in its entirety and renumber 2.3 and 2.4 as 2.2 and 2.3.]

2.2 Signature Required

[Revise the first sentence of renumbered 2.2 to read as follows:]

For editions of Priority Mail Express Label 11-B or Label 11-F printed on or after January 2012, a mailer sending a Priority Mail Express item, and requiring a signature, must instruct the USPS to provide a signature by checking the “signature required” box on Label 11-B or Label 11-F or indicating signature is requested on single-ply commercial label. * * *

* * * * *

200 Commercial Mail Letters, Cards, Flats, and Parcels

* * * * *

210 Priority Mail Express

* * * * *

215 Mail Preparation

* * * * *

2.0 Priority Mail Express 1-Day and 2-Day

* * * * *

[Delete 2.2, Waiver of Signature, in its entirety and renumber 2.3 and 2.4 as 2.2 and 2.3.]

2.2 Signature Required

[Revise the first sentence of renumbered 2.2 to read as follows:]

For editions of Priority Mail Express Label 11-B or Label 11-F printed on or after January 2012, a mailer sending a Priority Mail Express item, and requiring a signature, must instruct the USPS to provide a signature by checking the “signature required” box on Label 11-B or Label 11-F or indicating signature is requested on single-ply commercial label. * * *

* * * * *

500 Additional Mailing Services

503 Extra Services

1.0 Basic Standards for All Extra Services

1.1 Description

[Revise the first sentence of 1.1 to read as follows:]

Extra services described in 2.0 through 11.0 provide optional services such as insurance coverage, restricted delivery, and evidence of mailing, or a record of delivery (which includes a signature). * * *

* * * * *

1.8 Obtaining Delivery Information and Delivery Records

Delivery records for extra services are available as follows:

[Revise the text of item a to read as follows:]

a. Information by article number can be retrieved at www.usps.com or by calling 1-800-222-1811. A proof of delivery letter (including a signature, when available) may be provided by email. When a proof of delivery letter includes a signature, the signature provided may be a signature that was obtained from the recipient at the time of delivery or, for certain services, an electronic signature that was previously provided by the addressee (or representative) and is maintained on file with the Postal Service. Eligible mailers may require at the time of mailing that a signature be obtained from the recipient at the time of delivery.

* * * * *

4.0 Insured Mail

* * * * *

4.3 Basic Standards

4.3.1 Description

Insured mail is subject to the basic standards in 1.0; see 1.4 for eligibility. The following additional standards apply to insured mail:

* * * * *

[Revise the fourth and fifth sentences of item c to read as follows:]

c. * * * An item insured for more than $500.00 receives a delivery scan (includes returns products meeting the applicable standards in 505) and the USPS provides a signature as the delivery record to the mailer electronically (excludes returns products). Customers may optionally obtain a delivery record by purchasing a printed return receipt (Form 3811; also see 6.0 excludes returns products). * * *

* * * * *

8.0 USPS Signature Services

8.1 Basic Standards

8.1.1 Description

* * * USPS Signature Services are available as follows:

[Revise the second sentence of item a to read as follows:]

a. * * * A delivery record (including a signature) is maintained by the USPS and is available electronically or by email, upon request. * * *

* * * * *

508 Recipient Services

1.0 Recipient Options

1.1 Basic Recipient Concerns

* * * * *

1.1.7 Priority Mail Express and Accountable Mail

The following conditions also apply to the delivery of Priority Mail Express, Registered Mail, Certified Mail, mail insured for more than $500.00, Adult Signature, or COD, as well as mail for which a return receipt is requested or the sender has specified restricted delivery:

* * * * *

[Revise the text of item b to read as follows:]

b. Unless an electronic signature is used as described in 503.1.8a, a mailpiece may not be opened or given to the recipient before the recipient signs and legibly prints his or her name on the applicable form or label and returns the form or label to the USPS employee.

* * * * *

Brittany M. Johnson,
Attorney, Federal Compliance.

[FR Doc. 2019-04566 Filed 3-14-19; 8:45 am]

BILLING CODE 7710-12-P